DEPARTMENT OF TRANSPORTATION

Federal Aviation Administration

14 CFR Part 71

[Airspace Docket No. 00-AGL-04]

Modification of Class E Airspace; Ely, MN

AGENCY: Federal Aviation Administration (FAA), DOT.

ACTION: Final rule.

SUMMARY: This action modifies Class E airspace Ely, MN. A VHF Omnidirectional Range-A (VOR-A) Standard Instrument Approach Procedure (SIAP) has been developed for Ely Municipal Airport, MN. Controlled airspace extending upward from the surface of the earth is needed to contain aircraft executing this approach. This action increases the radius and adds an additional extension to the existing Class E airspace for Ely Municipal Airport.

EFFECTIVE DATE: 0901 U.T.C., August 10, 2000.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Friday, February 18, 2000, the FAA proposed to amend 14 CFR part 71 to modify Class E airspace at Ely, MN (65 FR 8324). The proposal was to modify controlled airspace extending upward from the surface to contain Instrument Flight Rules (IFR) operations in controlled airspace during portions of the terminal operation and while transiting between the enroute and terminal environments. Interested parties were invited to participate in this rulemaking proceeding by submitting written comments on the proposal to the FAA. No comments objecting to the proposal were received. Class E airspace designated as surface areas are published in paragraph 6002, and Class E airspace areas extending upward from 700 feet or more above the surface of the earth are published in paragraph 6005, of FAA Order 7400.9G dated September 1, 1999, and effective September 16, 1999, which is incorporated by references in 14 CFR 71.1. The Class E airspace designations listed in this document will be published subsequently in the Order.

The Rule

This amendment to 14 CFR part 71 modifies Class E airspace at Ely, MN, to accommodate aircraft executing instrument flight procedures into and out Ely Municipal Airport. The area will be depicted on appropriate aeronautical charts.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

* * * * *

Paragraph 6002 Class E airspace designated as a surface area.

* * * * *

AGL MN E2 Ely, MN [Revised]

Ely Municipal, MN

(Lat. 47° 49′ 28″ N., long. 91° 49′ 51″ W.)

Ely VOR/DME

(Lat. 47° 49′ 19″ N., long. 91° 49′ 49″ W.)

Within an 4.0-mile radius of the Ely Municipal Airport, and within 2.4 miles each side of the VOR/DME 108° radial extending from the 4.0-mile radius to 7.0 miles southeast of the VOR/DME, and within 2.4 miles each side of the VOR/DME 302° radial extending from the 4.0-mile radius to 7.0 miles northwest of the VOR/DME, and within 2.4 miles each side of the VOR/DME 172° radial extending from the 4.0-mile radius to 7.0 miles south of the VOR/DME. This Class E airspace area is effective during the specific dates and times established in advance by Notice to Airmen. The effective date and time will thereafter the continuously published in the Airport/Facility Directory.

* * * * *

Paragraph 6005 Class E airspace areas extending upward from 700 feet or more above the surface of the earth.

* * * * *

AGL MN E5 Ely, MN [Revised]

Ely Municipal Airport, MN

(Lat. 47° 49′ 28″ N., long. 91° 49′ 51″ W.)

That airspace extending upward from 700 feet above the surface within an 7.7-mile radius of the Ely Municipal Airport, excluding that airspace within Prohibited Area P-204.

* * * * *

Issued in Des Plaines, Illinois on April 26, 2000.
Christopher R. Blum,
Manager, Air Traffic Division.

[FR Doc. 00-12163 Filed 5-12-00; 8:45 am]

BILLING CODE 4910-13-M